COMMODITY FUTURES TRADING COMMISSION

Meeting of Technology Advisory Committee

AGENCY: Commodity Futures Trading Commission.

ACTION: Notice.

SUMMARY: The Commodity Futures Trading Commission (CFTC) announces a public meeting of the CFTC Technology Advisory Committee (TAC) on Tuesday, April 30, 2013, at the CFTC's Washington, DC, headquarters from 10:00 a.m. to 4:00 p.m. The TAC will focus on issues related to swap data reporting, and will also receive updates on the industry-led technology effort to improve customer protections, as well as new requirements imposed by the Commission's regulations.

DATES: The meeting will be held on April 30, 2013. Members of the public who wish to submit written statements in connection with the meeting should submit them by April 29, 2013.

ADDRESSES: The meeting will take place in the Conference Center at the CFTC's headquarters, Three Lafayette Centre, 1155 21st Street NW., Washington, DC 20581. Written statements should be submitted to: Commodity Futures Trading Commission, Three Lafayette Centre, 1155 21st Street NW., Washington, DC 20581, Attention: Office of the Secretary. Statements may also be submitted by electronic mail to: secretary@cftc.gov. Please use the title “Technology Advisory Committee” in any written statement you may submit. Any statements submitted in connection with the committee meeting will be made available to the public.

FOR FURTHER INFORMATION CONTACT: Ali Hosseini, Commodity Futures Trading Commission, Three Lafayette Centre, 1155 21st Street NW., Washington, DC 20581; (202) 418-6144.

SUPPLEMENTARY INFORMATION: The CFTC Technology Advisory Committee will hold a public meeting on Tuesday, April 30, 2013, from 10:00 a.m. to 4:00 p.m. at the CFTC's Washington, DC, headquarters. The meeting will focus primarily on issues related to swap data reporting. It will also include updates on the implementation of an industry-led technology solution to protect customer funds, and compliance with certain requirements imposed under Part 1 of the Commission's regulations (17 CFR part 1). These matters are of pressing importance to the public interest and to the CFTC's execution of its statutory duties under the Commodity Exchange Act, 7 U.S.C. 1 et seq. Therefore, this meeting is being announced with less than the 15 calendar days' notice provided for by 41 CFR 102-3.150(b).

The meeting will be open to the public with seating on a first-come, first-served basis. Members of the public who wish to listen to the meeting by telephone may do so by calling the toll-free telephone number listed in this Notice to connect to a live, listen-only audio feed. Call-in participants should be prepared to provide their first name, last name, and affiliation. After the meeting, a transcript of the meeting will be published on the CFTC's Web site, www.cftc.gov.

Members of the public who submit statements in connection with the meeting should be aware that all written submissions provided to the CFTC in any form will also be published on the CFTC Web site.

The telephone call-in information for the live, listen-only audio feed of the meeting is as follows:

Domestic Toll Free: 1-866-844-9416.

International Toll: To be posted on the CFTC Web site, www.cftc.gov, on the page for this meeting, under Related Documents.

Call Leader Name: Gian Robinson (1-202-418-5409).

Pass Code/Pin Code: CFTC.

Authority: 5 U.S.C. Appendix, Federal Advisory Committee Act, Sec. 10(a)(2).

Dated: April 23, 2013.
Christopher J. Kirkpatrick,
Deputy Secretary of the Commission.

[FR Doc. 2013-09980 Filed 4-26-13; 8:45 am]

BILLING CODE 6351-01-P